DEPARTMENT OF HEALTH AND HUMAN SERVICES

Centers for Disease Control and Prevention

Mine Safety and Health Research Advisory Committee (MSHRAC): Notice of Recharter

This gives notice under the Federal Advisory Committee Act (Public Law 92-463) of October 6, 1972, that the Mine Safety and Health Research Advisory Committee, National Institute for Occupational Safety and Health, of the Department of Health and Human Services, has been rechartered for a 2-year period, through November 30, 2002.

For further information, contact Larry Grayson, Ph.D., Executive Secretary, MSHRAC, CDC, 200 Independence Avenue, SW., Room 715-H, Humphrey Building, Washington, DC 20201. Telephone 202/401-2192, fax 202/260-4464, e-mail lhg9@cdc.gov.

The Director, Management Analysis and Services office has been delegated the authority to sign Federal Register notices pertaining to announcements of meetings and other committee management activities, for both the Centers for Disease Control and Prevention and the Agency for Toxic Substances and Disease Registry.

Dated: May 8, 2001.
Carolyn J. Russell,
Director, Management Analysis and Services Office, Centers for Disease Control and Prevention.

[FR Doc. 01-12000 Filed 5-11-01; 8:45 am]

BILLING CODE 4163-19-P